DEPARTMENT OF DEFENSE

Office of the Secretary

[Transmittal No. 19-0K]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0K with attached Policy Justification and Sensitivity of Technology.

Dated: December 12, 2019.
Aaron T. Siegel,
Alternate OSD Federal Register Liaison Officer, Department of Defense.

BILLING CODE 5001-06-P

BILLING CODE 5001-06-C

Transmittal No. 19-0K

REPORT OF ENHANCEMENT OR UPGRADE OF SENSITIVITY OF TECHNOLOGY OR CAPABILITY (SEC. 36(B)(5)(C), AECA)

(i) Purchaser: Japan

(ii) Sec. 36(b)(1), AECA Transmittal No.: 16-46

Date: September 21, 2016

Military Department: Air Force

(iii) Description: On September 21, 2016, Congress was notified by Congressional certification transmittal number 16-46 of the possible sale, under Section 36(b)(1) of the Arms Export Control Act, of four (4) KC-46 aerial refueling aircraft. Each aircraft is powered by two (2) Pratt & Whitney Model 4062 (PW4062) Turbofan engines. The sale included one (1) additional spare PW4062 engine. Each aircraft will be delivered with Global Positioning Satellite (GPS) capability and defensive systems installed plus spares, to include: Raytheon's ALR-69A Radar Warning Receiver (RWR), Raytheon's Miniaturized Airborne GPS Receiver 2000 (MAGR 2K) to provide GPS Selective Availability Anti-Spoofing Module (SAASM) capability, and Northrop Grumman's AN/AAQ-24(V) Large Aircraft Infrared Countermeasures (LAIRCM) Nemesis (N) system. Each LAIRCM system consists of the following components: three (3) Guardian Laser Terminal Assemblies (GLTA), six (6) Ultra-Violet Missile Warning System (UVMWS) Sensors AN/AAR-54, one (1) LAIRCM System Processor Replacements (LSPR), one (1) Control Indicator Unit Replacement, one (1) Smart Card Assembly, and one (1) High Capacity Card. The estimated total cost was $1.9B. Major Defense Equipment (MDE) constituted $1.5B of this total.

On April 24, 2018, Congress was notified by Congressional certification 0D-18 the inclusion of four (4) additional ALR-69A RWR systems, which will increase the total quantity of ALR-69A RWR systems included in the Japan KC-46 sale to nine (9). The four (4) additional ALR-69A RWR systems resulted in a net increase in MDE value of $6 million. The total program estimated MDE cost remained $1.5 billion. The total estimated program value remained $1.9 billion.

This transmittal reports the addition of Major Defense Equipment (MDE) items beyond what was originally notified: four (4) KC-46 aircraft; six (6) PW4062 Turbofan Engines (includes 2 spares); twelve (12) MAGR 2K-GPS SAASM Receivers; three (3) AN/ALR-69A RWR Systems; twenty (20) GLTA for AN/AAQ-24(V)N (includes 8 spares); forty-eight (48) MWS AN/AAR-54 (includes 24 spares); eight (8) LSPR for AN/AAQ-24(V)N (includes 4 spares). The following non-MDE items will be included: fourteen (14) AN/ARC-210 UHF Radios, eight (8) APX-119 Identification Friend or Foe (IFF) transponders, one (1) Weapon System Trainer and one (1) Boom Operator Trainer, initial spares and repair parts, consumables, support equipment, technical data, engineering change, proposals, publications, Field Service Representatives' (FSRs), repair and return, depot maintenance, training and training equipment, contractor technical and logistics personnel services, U.S. Government and contractor representative support, Group A and B installation for subsystems, flight test and certification, and other related elements of logistics support.

The addition of these items will result in a net increase in cost of MDE of $920 million, resulting in a revised total MDE cost of $2.42 billion. Additional non-MDE items at a cost of $300M will increase total non-MDE costs to $700M. The total case value will increase to $3.12 billion.

(iv) Significance: As Japan continues with its plans to develop a robust KC-46 fleet, it has requested additional aircraft. The proposed sale increases Japan's capability to participate in Pacific region security operations and improves Japan's national security posture as a key U.S. ally.

(v) Justification: This proposed sale will support the foreign policy and national security of the United States by improving the security of a major ally that is a force for political stability and economic progress in the Asia-Pacific region. It is vital to U.S. national interests to assist Japan in developing and maintaining a strong and effective self-defense capability.

(vi) Sensitivity of Technology: The Sensitivity of Technology Statement contained in the original notification applies to items reported here.

(vii) Date Report Delivered to Congress: September 12, 2019

[FR Doc. 2019-27253 Filed 12-17-19; 8:45 am]

BILLING CODE 5001-06-P